Proclamation 9211 of November 14, 2014

America Recycles Day, 2014

By the President of the United States of America

A Proclamation

As a Nation, we must do all we can to leave the next generation a cleaner, safer, and more stable world. America's young people are tomorrow's environmental stewards, and it is our responsibility to instill in them a conservation ethic. Recycling reduces our country's energy consumption, decreases our greenhouse gas emissions, and conserves our natural resources, and it is one of the first steps we can teach our children and grandchildren to take as part of their everyday lives. It also creates green jobs in America and provides essential resources to our growing manufacturing sector. Today, we recognize the environmental and economic benefits that recycling produces, and we celebrate all those who do their part to build a more prosperous and sustainable future.

Americans generate approximately 250 million tons of municipal solid waste every year. But more of this trash—from our homes, workplaces, and classrooms—could be recycled or reused. Individuals can compost their food waste and donate items that are no longer needed. The choices we make as we shop can also help reduce waste. Families and individuals can buy products that use less packaging, purchase goods made with recycled resources, and avoid disposable materials whenever possible. To discover additional ways to shrink your environmental footprint and to learn how and where to properly recycle common and uncommon household goods, visit www.EPA.gov/recycle.

Every American, every business, and every community can play a role in increasing the rate of recycling. In small towns and big cities, recycling programs are making a difference, and State and local governments can continue to do their part by promoting these programs, making them convenient, and continuing to invest in their recycling infrastructure. The Federal Government is leading by example, working to reduce our environmental impact. And as American businesses continue to innovate, they too can find new ways to reflect their commitment to recycling in their bottom line.

The actions we take today will determine what kind of world we will pass on to our Nation's young people. On America Recycles Day, we embrace our role not only as custodians of the present, but also as caretakers of tomorrow. Let us resolve to act boldly in the face of great challenge and encourage our friends, neighbors, and colleagues to join in the work of protecting our planet.

NOW, THEREFORE, I, BARACK OBAMA, President of the United States of America, by virtue of the authority vested in me by the Constitution and the laws of the United States, do hereby proclaim November 15, 2014, as America Recycles Day. I call upon the people of the United States to observe this day with appropriate programs and activities, and I encourage all Americans to continue their reducing, reusing, and recycling efforts throughout the year.

IN WITNESS WHEREOF, I have hereunto set my hand this fourteenth day of November, in the year of our Lord two thousand fourteen, and of the Independence of the United States of America the two hundred and thirty-ninth.

[FR Doc. 2014-27490

Filed 11-18-14; 8:45 am]

Billing code 3295-F5